DEPARTMENT OF STATE

[Public Notice 3476]

Determination; Assistance to the National Democratic Alliance (NDA)

Pursuant to section 451 of the Foreign Assistance Act of 1961, as amended (22 U.S.C. sec. 2261) (the “Act”), and section 1-201 of Executive Order 12163, as amended, I hereby authorize, notwithstanding any other provision of law, the use of up to $3.0 million in FY 2000 funds made available under Chapter IV of Part II of the Act for assistance to the civilian wing of the Sudanese National Democratic Alliance.

This authorization shall be reported to Congress immediately and published in the Federal Register.

Dated: October 31, 2000.
Madeline Albright,
Secretary of State.

[FR Doc. 00-29520 Filed 11-16-00; 8:45 am]

BILLING CODE 4710-26-P